DEPARTMENT OF ENERGY

Federal Energy Regulatory Commission

[Docket No. CP01-70-002]

Columbia Gas Transmission Corporation; Notice of Filing

June 29, 2001.

Take notice that on June 15, 2001, Columbia Gas Transmission Corporation (Columbia) tendered for filing with the Federal Energy Regulatory Commission (Commission) a compliance filing in Docket No. CP01-70. This filing may be viewed on the web at http://www.ferc.gov using the “RIMS” link, select “Docket #” from the RIMS Menu and follow the instructions (please call (202) 208-2222 for assistance).

On May 16, 2001, the Federal Energy Regulatory Commission issued its “Order Issuing Certificate and Authorizing Abandonment” in the above referenced docket (“May 16 Order”). In Ordering Paragraph (H) of the May 16 Order, the Commission required Columbia “to explain under what conditions it has been allowing shippers to contract for multi-year seasonal service and to have different primary delivery points on a seasonal basis.” In Ordering Paragraph (I) of the May 16 Order, the Commission directed Columbia “to file within 30 days of the issuance of this order all currently effective contracts in which Columbia has included, through footnotes or insertion of other language, conditions that would constitute material deviations from the pro forma service agreement that affect the service provided under its rate schedules.” Columbia is submitting the instant filing in compliance with these directives.

Columbia states that copies of its filing are available for inspection at its offices at 12801 Fair Lakes Parkway, Fairfax, Virginia; and 10 G Street NE., Suite 580, Washington, DC; and have been mailed to all firm customers, interruptible customers, and affected state commissions.

Any person desiring to be heard or to protest said filing should file a motion to intervene or protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Comments, protests and interventions may be filed electronically via the Internet in lieu of paper. See, 18 CFR 385.2001(a)(1)(iii) and the instructions on the Commission's web site at http://www.ferc. gov under the link to the User's Guide. If you have not yet established an account, you will need to create a new account by clicking on “Login to File” and then “New User Account.”

David P. Boergers,
Secretary.

[FR Doc. 01-16895 Filed 7-5-01; 8:45 am]

BILLING CODE 6717-01-M